DEPARTMENT OF TRANSPORTATION

National Highway Traffic Safety Administration

[DOT-NHTSA-2024-0074]

Speed Measuring Device Conformity—RADAR

AGENCY: National Highway Traffic Safety Administration (NHTSA), Department of Transportation (DOT).

ACTION: Notice of Transition of the NHTSA managed Down The Road (DTR) Radar Speed Measuring Device (SMD) Conforming Products List (CPL) program to an industry-based Verification Program.

SUMMARY: The National Highway Traffic Safety Administration (NHTSA) provides notice to the public that the Conforming Products List (CPL) maintained and updated by NHTSA for Down The Road (DTR) radar speed measuring devices will be discontinued. A new industry-based product Verification Program has been developed to confirm that DTR radar speed measuring devices conform to certain minimum specifications. The new industry-based product Verification Program will provide manufacturers the flexibility to confirm conformance with any testing entity as long as the entity can fulfill the requirements for testing and verifying device compliance with the established performance specifications, testing protocols and laboratory accreditation requirements of the industry-based Verification Program. To afford manufacturers time to transition to the new program, NHTSA will maintain the CPL for one year after the date of this notice.

Under the new Verification Program, a DTR radar speed measuring device manufacturer can use an accredited testing entity to verify that its speed measuring device conforms to an established performance standard and will be placed on a verified products list maintained by the Verification Program. Please refer to the NIST website for a list of available Verification Programs: https://www.nist.gov/mml/mmsd/security-technologies-group/down-road-dtr-radar. The new Verification Program will provide manufacturers with a proven method of demonstrating compliance to the minimum performance specifications, will empower end-users to make better purchasing decisions, and benefit manufacturers as products can quickly gain market acceptance.

Accordingly, as of the date of this publication, NHTSA will no longer perform CPL processing under the Interim Administrative Guide for the Traffic Enforcement Technologies Program.

DATES: Comments are due by within 30 days of this announcement.

ADDRESSES: You may submit comments identified by the docket number in the heading of this document by any of the following methods:

• Go to http://www.regulations.gov. Follow the instructions for submitting comments on the electronic docket site by clicking on “Help” or “FAQ”.

• Mail or Hand Delivery: Docket Management, U.S. Department of Transportation, 1200 New Jersey Avenue SE, West Building, Room W12-140, Washington, DC 20590, between 9 a.m. and 5 p.m. Eastern Time, Monday through Friday, except on Federal holidays. To be sure someone is there to help you, please call (202) 366-9322 before coming.

• Fax: 202-493-2251.

Instructions: Each submission must include the Agency name and the Docket number for this Notice. Note that all comments received will be posted without change to www.regulations.gov, including any personal information provided. Please see the Privacy heading below.

Privacy Act: Anyone can search the electronic form of all comments received into any of our dockets by the name of the individual submitting the comment (or signing the comment, if submitted on behalf of an association, business, labor union, etc.). DOT's complete Privacy Act Statement can be viewed on the Federal Register published on April 11, 2000 (65 FR 19477-78) or by visiting https://www.dot.gov/privacy.html.

Docket: For access to the docket to read comments received, go to http://www.regulations.gov, or the street address listed above. Follow the online instructions for accessing the dockets.

FOR FURTHER INFORMATION CONTACT: Keith D. Williams, Enforcement and Justice Services Division, NPD-220, National Highway Traffic Safety Administration, 1200 New Jersey Avenue SE, Washington, DC 20590; Telephone; (202) 366-8137.

SUPPLEMENTARY INFORMATION:

I. Background

The use of enforcement technologies is a major component of many traffic safety programs. Traffic Radio Detection and Ranging (RADAR) technology has been used in the United States to detect speeding motorists since the late 1940s. Over time, radar speed-measuring devices have evolved from large, unwieldy stationary models to compact and sophisticated units capable of monitoring the speeds of moving vehicles while operating in either a stationary or moving mode. These technological advances, as well as the development of other traffic enforcement technologies, have greatly enhanced the mobility, efficiency, and effectiveness of enforcement of speed limits.

Speed measuring device performance specifications ensure that devices are accurate and reliable when properly operated and maintained. Law enforcement agencies have historically been encouraged to utilize a CPL as a criteria for determining which speed measuring devices they choose to procure.

Filling a gap for a need of nationally recognized performance standards for law enforcement traffic radar speed measuring devices, in 1977, NHTSA entered into an interagency agreement with the Law Enforcement Standards Laboratory of the National Bureau of Standards (NBS) to develop performance standards for law enforcement speed measuring devices. Further, at that time, concurrence between operator training requirements and technological advances had not been maintained.

In December 1980, NHTSA published a proposed rulemaking for Down-the-Road (DTR) Radar performance standards specifications, 49 FR 2097. After a thorough review of comments received in response to the proposed rulemaking for performance standards for radar speed measuring devices (see 46 FR 2097-2120), NHTSA decided not to regulate in the area because the benefits of the proposed rule could be achieved without the issuance of a federal regulation. Instead of a performance standard, NHTSA engaged with the United States Department of Commerce, National Bureau of Standards, now known as the National Institute of Standards and Technology (NIST), to develop model performance specifications. A technical report was published in March 1982 entitled “Model Performance Specifications for Police Traffic Radar Devices” under NHTSA report number DOT HS 806-191. States and local law enforcement were free to adopt these specifications to guide their purchase of DTR radar devises.

In late 1990s, the International Association of Chiefs of Police (IACP), through a Cooperative Agreement with NHTSA, formed the Enforcement Technologies Advisory Technical Subcommittee (ETATS), which brought together manufacturers, practitioners, law enforcement, and other stakeholders to update and/or revise the specifications and provide laboratory services to test and validate compliance of DTR radar units against the minimum performance specifications. Under the cooperative agreement, the IACP/ETATS produced an update to the 1982 Model Performance Specifications titled Speed Measuring Device Performance Specifications: Down the Road Radar Module (DOT HS 812 266).

With the conclusion of the cooperative agreement, the ETATS was disbanded. Thereafter, NHTSA administered the CPL pursuant to NHTSA produced guidance titled Interim Administrative Guide for the Traffic Enforcement Technologies Program. See: https://www.nhtsa.gov/sites/nhtsa.gov/files/documents/interim_admin_guide_-_nov_29_2016.pdf.

Since the conclusion of the IACP cooperative agreement, NHTSA has worked with NIST to develop a new industry-based verification program by which DTR Radar devices could be tested and verified against a minimum performance standard. NIST engaged the Institute of Electrical and Electronics Engineers (IEEE), who, through its Instrumentation and Measurement Society, established the TC-41 Traffic Enforcement Technologies technical committee and the DTR Radar Working Group. The DTR Radar Working Group brought together manufacturers, scientists, law enforcement and other stakeholders to develop, through a consensus process, documentary standards, minimum performance specifications and associated test methods for DTR radar devices. The DTR Radar Working Group was also tasked with preparing a framework for establishing criteria, including comprehensive and consistent processes, to address conformity assessment through a verification process of DTR Radar devices (see https://ieee-ims.org/technical-committee/tc-41). As a result of these efforts, IEEE published IEEE Standard 2450, The Performance of Down-the-Road Radar Used in Traffic Speed Measurements (IEEE Standard) on November 5, 2019. The IEEE Standard specifies the baseline performance requirements and associated test procedures for DTR radar speed-measuring devices used by law enforcement agencies to enforce vehicle speed limit laws.

Verification processes for DTR Radar devices are focused on product effectiveness and include the following primary components: Verification, Inspection, Testing, Accreditation, Surveillance, Supplier's Declaration of Conformity, Registration, and Quality Management Systems.

II. Objective

This notice supports NHTSA's mission to save lives, prevent injuries, and reduce economic costs due to road traffic crashes, through education, research, safety standards, and enforcement. NHTSA has established through research and practice that law enforcement and the work of our Nation's law enforcement officers are critical to the prevention and reduction of traffic-related fatalities and injuries. Traffic enforcement must have equity—the consistent, fair, just, and impartial treatment of all people—at its foundation. The use of accurate and reliable speed measuring devices to enforce vehicle speed limit laws is crucial in reducing speeding-related crashes.

To ensure that DTR radar devices are reliable and accurate, NHTSA has historically supported efforts to maintain and publish a CPL. The objective of this notice is two-fold. First, to notify the public that a new industry-based verification program, based on the IEEE Standard, is available to manufacturers. Second, NHTSA notifies the public that the NHTSA Traffic Enforcement Technologies Program will be discontinued due to the establishment of the industry-based verification program.

III. Transition to the Industry-Based Verification Program

While today NHTSA is announcing that it will discontinue the Traffic Enforcement Technologies Program and no longer maintain a CPL, it will maintain the CPL for one year after the date of publication of this notice to permit manufacturers with devices on the current CPL time to enter devices into the industry-based verification program. Accordingly, as of November 21, 2025 NHTSA will retire the CPL that it maintained through the Interim Administrative Guide for the Traffic Enforcement Technologies Program. Manufacturers that prefer a verification of DTR radar devices they produce may engage the industry-based verification program developed by NIST.

IV. Industry-Based Verification Program

Manufacturers of DTR Radar devices may, at their expense, obtain product verification through third-party verification programs conducted by entities that are accredited pursuant to the International Organization for Standardization/International Electrotechnical Commission (ISO/IEC) Standard 17065 (see https://www.iso.org/obp/ui/#iso:std:iso-iec:17065:ed-1:v1:en to learn more about becoming an accredited verification entity). Accredited verification entities must perform the required testing in conformance with the standard developed by the Institute of Electrical and Electronics Engineers (IEEE) and is listed as the 2450-2019—IEEE Standard for the Performance of Down-the-Road Radar Used in Traffic Speed Measurements, published November 5, 2019 (see https://standards.ieee.org/ieee/2450/6920/). A list of entities that are accredited verification entities to IEEE Standard 2450-2019 is located here https://www.nist.gov/mml/mmsd/security-technologies-group/down-road-dtr-radar. The IEEE standard is the baseline for verification requirements and associated test procedures for down-the-road (DTR) traffic radar speed-measuring devices. A DTR radar device that is found to meet the IEEE standard will be added to a verified product listing, that is a list of product models that have demonstrated compliance to applicable performance requirements and specifications. Unmanned radar speed-measuring devices, automated speed enforcement, or DTR radar range measurements are not covered in this standard.

The industry-based verification program includes initial and surveillance performance requirements and the use of the Verification Mark to be placed on all verified units. The testing entity will provide documentation to the manufacturer that its product meets the IEEE standard. The industry-based Verification Program will maintain a verified product list on its website for products that meet the performance specifications. More information about the Down-the-Road Radar Devices verification program, including information related to entities that are accredited to IEEE Standard 2450-2019, is located here: https://www.nist.gov/mml/mmsd/security-technologies-group/down-road-dtr-radar.

Authority: 23 U.S.C. 403; 49 CFR 1.95; 49 CFR 501.8.

Nanda Narayanan Srinivasan,
Associate Administrator, Research and Program Development.

[FR Doc. 2024-27130 Filed 11-20-24; 8:45 am]

BILLING CODE 4910-59-P